Memorandum of August 5, 2016

Transfer of Unified Command Plan Responsibilities

Memorandum for the Secretary of Defense

Pursuant to my authority as Commander in Chief, I hereby approve your request dated June 16, 2016 and direct the transfer of the requested responsibilities in the Unified Command Plan.

Consistent with title 10, United States Code, section 161(b)(2) and title 3, United States Code, section 301, you are directed to notify the Congress on my behalf.

You are authorized and directed to publish this memorandum in the Federal Register.

THE WHITE HOUSE,

Washington, August 5, 2016

[FR Doc. 2016-19201

Filed 8-9-16; 11:15 am]

Billing code 5001-06-P